DEPARTMENT OF STATE

[Public Notice 3713]

Bureau of Educational and Cultural Affairs: Request for Grant Proposals: Educational Partnerships Program (Formerly College and University Affiliations Program)

SUMMARY: The Office of Global Educational Programs of the Bureau of Educational and Cultural Affairs in the Department of State announces an open competition for the Educational Partnerships Program, previously known as the College and University Affiliations Program. Accredited, post-secondary educational institutions meeting the provisions described in IRS regulation 26 CFR 1.501(c) may apply to pursue institutional or departmental objectives in partnership with foreign counterpart institutions with support from the Educational Partnerships Program. These objectives should support the overall goal of the Program: To strengthen mutual understanding and cooperation between U.S. and foreign educational institutions on subjects of enduring common interest to the United States, to other countries, and to the institutions participating in the Program.

Program Overview

The Educational Partnerships Program has developed from its predecessor, the College and University Affiliations Program, which since 1982 has provided grants to U.S. colleges and universities for international cooperation. The Program's new name underscores the expectation that the successful pursuit of project objectives will require all institutional partners to be actively engaged with one another. Current and former participants in the Fulbright Senior Scholar Program and other university teachers and administrators with knowledge of educational institutions in other countries are encouraged to build on this knowledge through institutional cooperation with support from the Educational Partnerships Program. The review criteria outlined in this document emphasize the importance of mutual commitment and shared benefits. Potential applicants are discouraged from proposing projects that have been developed previously for other programs unless the projects are reconceived with the overall goals and review criteria for the Educational Partnerships Program clearly in mind.

The Educational Partnerships Program supports institutional linkages in higher education with every world region except the New Independent States of the former Soviet Union. It is anticipated that separate Requests for Grant Proposals for institutional partnerships in higher education with the New Independent States (NIS College and University Partnerships Program and the NIS Community College Partnerships Program) will be published in the summer of 2001. For additional information about these NIS programs please refer to the “Foreign Country and Location Eligibility” section of this RFGP. Other RFGPs for educational partnerships may also be published this fiscal year.

This RFGP for the Educational Partnerships Program does not prescribe specific project objectives, but establishes the parameters within which applicants are invited to propose projects. Institutional objectives should be consistent with the Program's goal of equipping the participating institutions with a stronger ability to address, through teaching, research, or outreach, critical issues in the fields eligible in FY 2002: The social, political, and economic sciences; business; journalism and media studies; law; public administration; public health policy and administration; the humanities (excluding the fine arts); the Teaching of English as a Foreign Language; and educational development or administration (excluding educational projects in the physical, technical, and medical sciences). Additional information on themes of special interest in specific world regions may be found under the heading “Foreign Country and Location Eligibility.”

Institutional Objectives for Applicants

While the benefits of the project to each of the participating institutions may differ significantly in nature and scope based on their respective needs and resource bases, proposals should outline well-reasoned strategies that are designed to meet specific objectives for each participating U.S. and foreign department or institution as a whole.

For example, proposals may outline the parameters and possible content of new courses, new research or teaching specializations or methodologies, new or revised curricula, new programs for educational outreach, or other changes specifically anticipated as a result of the project. Proposals to pursue a limited number of related thematic objectives at each institution are preferred to proposals addressing a large number of unrelated objectives.Proposals that do not benefit all institutional partners are not eligible for funding from this Program.

In addition to demonstrating how each participating institution can assist its partner(s) to meet institutional goals, proposals should also explain how this cooperation will enable each institution to address its own needs. Accordingly, applicants are encouraged to describe the needs and deficiencies as well as the capabilities and strengths of each participating department and institution, and how each institution will contribute to and benefit from the achievement of project objectives. Proposals that realistically assess institutional capacities will be better able to outline compelling objectives that address institutional needs and justify a request for support. To be competitive, proposals should demonstrate that the participating institutions understand one another and are committed to mutual support and cooperation in project implementation.

If the proposed partnership would occur within the context of a previous or ongoing project, the proposal should explain how the request for Bureau funding would build upon the pre-existing relationship or complement previous and concurrent projects. Previous projects should be described, with details about the amounts and sources of support and the results of previous cooperative efforts.

Institutions receiving partnership grant awards will be expected to submit periodic reports on the results of program activities. Proposals should outline and budget for a methodology for project evaluation. The evaluation plan should include an assessment of the current status of each participating department's and institution's needs at the time of program inception with specific reference to project objectives; formative evaluation to allow for mid-course revisions in the implementation strategy; and, at the conclusion of the project, summative evaluation of the degree to which the project's objectives have been achieved together with observations about the project's continuing potential to influence the participating institutions and their surrounding communities or societies. The final evaluation should also include recommendations about how to build upon project achievements. Evaluative observations by external consultants with appropriate subject and regional expertise are especially encouraged.

Costs

The commitment of all partner institutions to the proposed project should be reflected in the cost-sharing which they offer in the context of their respective institutional capacities. Although the contributions offered by U.S. and foreign institutions with relatively few resources may be less than those offered by applicants with greater resources, all participating institutions should identify appropriate cost-sharing. These costs may include estimated in-kind contributions. Consistent with the review criteria listed elsewhere in this RFGP and with specific reference to cost-sharing and institutional commitment to cooperation, proposed cost-sharing will be considered an important indicator of each participating institution's interest in the project and potential to benefit from it.

A U.S. college or university must submit the proposal and must be prepared to serve as grant recipient with responsibility for project coordination. Proposals must include letters of commitment from all institutional partners. Each letter must be signed by an official who is authorized to commit institutional resources to the project.

The Bureau's support may be used to assist with the costs of the exchange visits as well as the costs (up to a maximum of 20 percent of the total grant) of the administration of the project at any partner institution. However, governmental institutions except universities may not charge administrative costs to the grant. Administrative costs include administrative salaries and direct administrative costs but not indirect costs. Although each grant will be awarded to a single U.S. institutional partner, adequate provision in the proposal for the administrative costs of the project at all non-governmental partner institutions, including the foreign partner(s), is encouraged. More information on partner institution eligibility in this competition is found in this RFGP under the headings “U.S. Partner and Participant Eligibility” and “Foreign Partner and Participant Eligibility.”

Salary support for administrative activity may be included within the 20 percent maximum. The Bureau will not fund salaries, stipends, consultant fees or honoraria for participants from the project's program budget. However, fees for translation services and for outside consultants reporting on the status of project objectives are allowable as program expenses.

The proposal may include a request for funding to reinforce the activities of exchange participants through the establishment and maintenance of Internet and/or electronic mail facilities as well as through interactive technology or non-technology-based distance-learning programs. However, the establishment and maintenance of these facilities at governmental organizations in the U.S. or at foreign governmental organizations other than universities is not eligible for funding. Projects focusing primarily on technology or physical infrastructure development are not encouraged, and the amount that may be requested for educational and technical materials should not exceed 20 percent of the Bureau's funding for the project. Proposals that include Internet, electronic mail, and other interactive technologies in countries where these technologies are not easily maintained or financed should discuss how the foreign partner institution will cover their costs after the project ends. Applicants may propose other project activities not specifically mentioned in this solicitation if the activities reinforce the impact of the project.

The maximum award in the FY 2002 competition will be$120,000, with the exceptions noted under the heading “Foreign Country and Location Eligibility.” The minimum period of award is two years, and the maximum period of award is three years. Awards may be extended on a no-cost basis beyond the initial grant period by mutual agreement if progress toward project goals is satisfactory. Requests for amounts smaller than the maximum are eligible. Budgets and budget notes should carefully justify the amounts requested. Grants awarded to organizations with less than four years of experience in conducting international exchange programs will be limited to $60,000.

Grants are subject to the availability of funds for FY 2002. In FY 2000, the last year for which complete data are available, 112 eligible proposals were submitted to the College and University Affiliations Program, and 17 awards were made. The response to Requests for Grant Proposals for the support of partnerships in higher education has been unusually strong in recent years while, except for the New Independent States of the former Soviet Union, the funds available have fallen significantly short of the demand for them. Special FY 2002 funding with higher grant maximums and more favorable grant-to-application ratios is expected for projects in Albania, Algeria, Kosovo, Montenegro, the New Independent States of the former Soviet Union, Serbia outside Kosovo, and Tunisia. Additional details are provided under the heading “Foreign Country and Location Eligibility.”

U.S. Institution and Participant Eligibility

The lead institution and grant recipient in the project must be an accredited U.S. college or university. Applications from community colleges, minority-serving institutions, undergraduate liberal arts colleges, comprehensive universities, research universities, and combinations of these types of institutions are eligible. The lead U.S. organization in a consortium or other combination of cooperating institutions is responsible for submitting the application. Each application must document the lead organization's authority to represent all U.S. cooperating partners. Secondary U.S. partners may include governmental or non-governmental organizations as well as non-profit service and professional organizations.

Applicants that have not previously received grants under an educational partnership or affiliations program administered by the Bureau are especially encouraged to apply. The Bureau intends to provide at least 20 percent of the awards under the FY 2002 Educational Partnerships Program to U.S. colleges and universities that have not received funding from the Bureau under an educational partnership or affiliations program during the previous seven fiscal years (since FY 1995). A list of previously issued educational partnership and affiliations grants can be found on the following website: http://exchanges.state.gov/education/cuap/history.

With the exception of translators and outside consultants reporting on the status of project objectives, participation is limited to teachers, advanced graduate students, and administrators from the participating U.S. institution(s). All participants who are funded by the Bureau under the program budget and represent the U.S. institution must be U.S. citizens. Advanced graduate students at the U.S. institution(s) are eligible for support from the project only as visiting instructors or researchers at a foreign partner institution.

Foreign Institution and Participant Eligibility

In other countries, participation is open to recognized institutions of post-secondary education, which may include independent research institutes, relevant governmental organizations, and private non-profit organizations with project-related educational objectives. Except for translators and outside consultants reporting on the status of project objectives, participation is limited to teachers, administrators, researchers, or advanced students from the participating foreign institution(s). Any advanced student participant must either have teaching responsibilities or be preparing for such responsibilities.Foreign participants must be citizens, nationals, or permanent residents of the country of the foreign partner, and must be both qualified to receive U.S. J-1 visas and willing to travel to the U.S. under the provisions of a J-1 visa during the exchange visits funded by this Program.

Foreign Country and Location Eligibility

To increase the percentage of competitive proposals that can be funded, the number of eligible countries and locations is limited each year. However, country eligibility is expected to rotate within most of the following seven world regions according to the cycles outlined below. Proposals may not include more than one country or location except as noted below under the headings “Western Hemisphere” and “South Asia.” Countries or locations may be added to those listed in the Request for Grant Proposals for FY 2003 and FY 2004. Separate Requests for Grant Proposals will be issued in the spring of 2002 for FY 2003 and in the spring of 2003 for FY 2004. Although these sections indicate priority concerns and emphases within the world regions listed, applicants are reminded that their proposals should outline anticipated benefits to the U.S. partner(s) as well.

(1) New Independent States (former Soviet Union): Institutions interested in partnerships with institutions of higher education in the New Independent States should consult separate Requests for Grant Proposals for the NIS College and University Partnerships Program and for the NIS Community College Partnerships Program. For information about these programs, contact the Humphrey Fellowships and Institutional Linkages Branch, Office of Global Educational Programs (ECA/A/S/U),Room 349, U.S. Department of State, State Annex 44, 301 4th Street, SW., Washington, DC 20547, phone: (202)619-5289, fax: (202) 401-1433.

(2) Sub-Saharan Africa: We encourage projects that will strengthen the role of African institutions of higher education in an eligible country's development and that will encourage increased involvement of African universities with other local and international institutions that contribute to African social, political or economic development.

Eligible for FY 2002: Kenya, Mozambique, Namibia, Nigeria, Tanzania, Uganda, and Zimbabwe.

Anticipated eligibility for FY2003: Nigeria, Eritrea, Ethiopia, and Zambia. Subjects to be determined.

Anticipated eligibility for FY 2004: Countries and subjects to be determined.

(3) Western Hemisphere: We encourage projects that will strengthen civic, economic, or educational reform, or that address current issues in journalism and media studies, public administration, or the social sciences. Beyond the countries listed below as eligible in FY 2002, we encourage proposals for trilateral cooperation among institutions in the U.S., Canada, and Mexico. In addition, any country in the Western Hemisphere may be proposed in a trilateral configuration with a country listed as eligible for this region in FY 2002. Applicants proposing to involve partners in more than one country should ensure that there are significant benefits to each partner in the project.

Eligible for FY 2002: Costa Rica, El Salvador, Mexico, Guatemala, Honduras, Nicaragua, Panama and Paraguay. Up to two of these listed countries may be included with the U.S. in a project, and any country in the Western Hemisphere may be included with the U.S. and any one of the countries listed.

Anticipated Eligibility for FY2003: Bolivia, Colombia, Dominican Republic, Ecuador, Haiti, Peru, and Venezuela. Subjects to be determined.

Anticipated eligibility for FY2004: Argentina, Barbados, Brazil, Chile, Jamaica, Trinidad and Tobago, and Uruguay. Subjects to be determined.

(4) East Asia and the Pacific: We encourage projects that will promote democratic values and practices, that will encourage good governance and responsible administrative practices in either the public sector or the private sector, that will strengthen civil society or the freedom and independence of the media, or that will help to create more transparent, market-oriented economies.

Eligible for FY 2002: People's Republic of China, Republic of Korea, Mongolia, Taiwan, and Thailand.

Anticipated Eligibility for FY 2003: Cambodia, People's Republic of China, Indonesia, and Laos. Subjects to be determined.

Eligible for FY 2004: People's Republic of China, Malaysia, Philippines, and Vietnam. Subjects to be determined.

(5) Europe: We encourage proposals that will equip universities to assist with the transitions to more market-oriented economies, to democratic political life, to a strengthened civil society, or to responsible administrative practices in the public sector.

Eligible for FY 2002: Bulgaria, Czech Republic, Estonia, Latvia, Lithuania, and Slovakia.

Also eligible for special funding in FY 2002 in designated fields or locations and with higher maximum awards:

Albania (political science only, maximum request $225,000), Kosovo (civic education encouraged, public administration and business administration not encouraged, maximum request$240,000), Montenegro (public administration or business administration only, maximum request $180,000), Serbia outside Kosovo (maximum request $180,000, projects encouraged with institutions outside Belgrade).

Anticipated Eligibility for FY 2003: Former Yugoslav Republic of Macedonia, Poland, and Romania. Subjects to be determined.

Anticipated Eligibility for FY 2004: Bosnia and Herzegovina, Croatia, Hungary, Slovenia, and Turkey. Subjects to be determined.

(6) North Africa and the Middle East: We encourage projects that will strengthen civil society, support the development of university-based programs in American Studies or the Teaching of English, support economic development, or encourage responsible, transparent administration in the public sector.

Eligible for FY 2002: Bahrain, Lebanon, Syria, and United Arab Emirates.

Also eligible for special funding in FY 2002 in designated countries and with higher maximum awards: Algeria (maximum request $215,000), Tunisia (maximum request $180,000). Projects with Algeria and Tunisia should contribute to economic modernization in the respective countries.

Anticipated Eligibility for FY 2003: Algeria, Gaza, Qatar, Saudi Arabia, and West Bank. Subjects to be determined.

Anticipated Eligibility for FY 2004: Israel, Jordan, Kuwait, Morocco, and Oman. Subjects to be determined.

(7) South Asia: We encourage projects that will promote the development of good governance and responsible administrative practices in either the public sector or the private sector, that will strengthen educational or economic institutions, or that will address issues of social or religious diversity. Due to the relatively small number of proposals submitted for South Asia in recent years, proposals in FY 2002 may include more than one of the South Asian countries listed in this section. Proposals involving partners in more than one country should ensure that the anticipated benefits of the project to each partner are significant.

Eligible for FY 2002: Bangladesh, India, Nepal, Pakistan, and Sri Lanka.

Anticipated eligibility for FY 2003 and FY 2004: Countries and subjects to be determined.

Ineligibility

A proposal may be deemed technically ineligible if:

(1) It does not fully adhere to the guidelines established in this document and in the Solicitation Package;

(2) It is not received by the deadline;

(3) It is not submitted by the U.S. partner;

(4) One of the partner institutions is ineligible;

(5) The foreign country or geographic location is ineligible.

Grant-Making Authority

Overall grant-making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world. The funding authority for the program cited above is provided through the Fulbright-Hays Act. Additional funding may be provided through separate appropriations that may be made available to the Bureau to support international educational partnerships.

Projects must conform with the Bureau's requirements and guidelines outlined in the solicitation package for this RFGP. The Project Objectives, Goals, and Implementation (hereafter, POGI) and the Project Specific Instructions (hereafter, PSI), which contain additional guidelines, are included in the Solicitation Package. Proposals that do not follow RFGP requirements and the guidelines appearing in the POGI and PSI may be excluded from consideration due to technical ineligibility.

Announcement Title and Number

All communications with the Bureau concerning this announcement should refer to the Educational Partnerships Program and reference number ECA/A/S/U-02-01.

Deadline for Proposals

All copies must be received at the Bureau of Educational and Cultural Affairs by 5 p.m. Washington, D.C. time on Friday, January 11, 2002. Faxed documents will not be accepted (although faxed letters of commitment from non-U.S. institutional partners may be submitted as part of the original proposal), nor will documents postmarked on Friday, January 11, 2002 but received on a later date.

Approximate Grant Duration

Grant activities should begin on or about September 16, 2002.

For Further Information

To request a solicitation package, contact the Humphrey Fellowships and Institutional Linkages Branch (Educational Partnerships Program); Office of Global Educational Programs; Bureau of Educational and Cultural Affairs; ECA/A/S/U, Room 349; U.S. Department of State; SA-44, 301 Fourth Street, SW.; Washington, DC 20547; phone: (202) 619-5289, fax: (202) 401-1433. The Solicitation Package includes more detailed award criteria, all application forms, and guidelines for preparing proposals, including specific criteria for preparation of the proposal budget. Applicants desiring more information may send a message to one of the following Educational Partnerships regional program officers: For Africa and the Middle East: Mary Lou Johnson-Pizarro, e-mail: mpizarro@pd.state.gov; for the Western Hemisphere and Europe outside the NIS: Maria Urbina, e-mail: murbina@pd.state.gov; and for East Asia and South Asia: Joan Zaffarano, e-mail: jzaffara@pd.state.gov.

To Download a Solicitation Package Via Internet

The entire Solicitation Package may be downloaded from the Bureau's website at: http://exchanges.state.gov/education/rfgps. Please read all information before downloading.

Prospective applicants should read the complete Request for Grant Proposals as published in the Federal Register and available on the Bureau's website before addressing inquiries to the Educational Partnerships Program staff or submitting their proposals. Once the RFGP deadline has passed, Department staff may not discuss this competition in any way with applicants until the Bureau proposal review process has been completed.

Submissions

Applicants must follow all instructions given in the Solicitation Package. The original and 10 copies of the complete application should be sent by the project's lead U.S. college or university to:U.S. Department of State,SA-44, Bureau of Educational and Cultural Affairs,Ref: ECA/A/S/U-02-01,Program Management, ECA/EX/PM, Room 534,301 4th Street, SW.,Washington, DC 20547.

Applicants must also submit the “Proposal Title Sheet,” “Executive Summary,” and “Proposal Narrative” sections of the proposal as e-mail attachments in Microsoft Word (preferred), WordPerfect, or as ASCII text files to the following e-mail address: partnerships@pd.state.gov. In the e-mail message subject line, include the following: ECA/A/S/U-02-01 and the country or countries of the foreign partner(s) together with the names of the U.S. and foreign partner institutions. To reduce the time needed to obtain advisory comments from the Public Affairs Sections of U.S. Embassies overseas and from binational Fulbright Commissions, the Bureau will transmit these files electronically to these offices.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content.Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals may be deemed ineligible if they do not fully adhere to the guidelines stated herein and in the Solicitation Package. All eligible proposals will be evaluated by independent external reviewers. These reviewers, who will be professional, scholarly, or educational experts with appropriate regional and thematic knowledge, will provide recommendations and assessments for consideration by the Bureau. The Bureau will consider for funding only those proposals which are recommended for funding by the independent external reviewers.

Proposals may also be reviewed by the Office of the Legal Advisor or by other offices of the U.S. Department of State. In addition, U.S. Embassy or binational Fulbright Commission officers may provide advisory comment. Funding decisions will be made at the discretion of the Department of State's Acting Assistant Secretary for Educational and Cultural Affairs. Final technical authority for assistance awards (grants or cooperative agreements) will reside with the Bureau's grants officer.

Review Criteria

All reviewers will use the criteria below to reach funding recommendations and decisions. Technically eligible applications will be reviewed competitively according to these criteria, which are not rank-ordered or weighted.

(1) Broad and Enduring Significance of Institutional Objectives: Project objectives should have significant and ongoing results for the participating institutions and for their surrounding societies or communities by providing a deepened understanding of critical issues in one or more of the eligible fields. Project objectives should relate clearly to institutional and societal needs.

(2) Creativity and Feasibility of Strategy to Achieve Project Objectives: Strategies to achieve project objectives should be feasible and realistic within the projected budget and timeframe. These strategies should utilize and reinforce exchange activities creatively to ensure an efficient use of program resources.

(3) Institutional Commitment to Cooperation: Proposals should demonstrate significant understanding by each institution of its own needs and capacities and of the needs and capacities of its proposed partner(s), together with a strong commitment by the partner institutions, during and after the period of grant activity, to cooperate with one another in the mutual pursuit of institutional objectives.

(4) Project Evaluation: Proposals should outline a methodology for determining the degree to which a project meets its objectives, both while the project is underway and at its conclusion. The final project evaluation should include an external component and should provide observations about the project's influence within the participating institutions as well as their surrounding communities or societies.

(5) Cost-effectiveness: Administrative and program costs should be reasonable and appropriate with cost-sharing provided by all participating institutions within the context of their respective capacities. We view cost-sharing as a reflection of institutional commitment to the project. Although indirect costs are eligible for inclusion as cost-sharing by the applicant, contributions should not be limited to indirect costs.

(6) Support of Diversity: Proposals should demonstrate substantive support of the Bureau's policy on diversity by explaining how issues of diversity are included in project objectives for all institutional partners. Issues resulting from differences of race, ethnicity, gender, religion, geography, socio-economic status, or physical challenge should be addressed during project implementation. In addition, project participants and administrators should reflect the diversity within the societies which they represent (see the section of this document on “Diversity, Freedom, and Democracy Guidelines”). Proposals should also discuss how the various institutional partners approach diversity issues in their respective communities or societies.

Notice

The terms and conditions published in this RFGP are binding and may not be modified by any State Department representative. Explanatory information provided by the Department of State that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: June 22, 2001.
Helena Kane Finn,
Acting Assistant Secretary for Educational and Cultural Affairs, Department of State.

[FR Doc. 01-16703 Filed 7-3-01; 8:45 am]

BILLING CODE 4710-05-P